DEPARTMENT OF THE INTERIOR

Bureau of Indian Affairs

Proclaiming Certain Lands as Reservation for the Pueblo of Isleta Indians in New Mexico

AGENCY: Bureau of Indian Affairs, Interior.

ACTION: Notice of reservation proclamation.

SUMMARY: This notice announces that the Assistant Secretary—Indian Affairs proclaimed approximately 58 acres, more or less, as an addition to the reservation of the Pueblo of Isleta on May 22, 2001.

FOR FURTHER INFORMATION CONTACT: Larry E. Scrivner, Deputy Director, Office of Trust Responsibilities, MS-4510/MIB/Code 220, 1849 C Street, NW., Washington, DC 20240, telephone (202) 208-7737.

SUPPLEMENTARY INFORMATION: This notice is published in the exercise of authority delegated by the Secretary of the Interior to the Assistant Secretary—Indian Affairs by 209 DM 8.1.

A proclamation was issued according to the Act of June 18, 1934 (48 Stat. 986; 25 U.S.C. 467), for the tract of land described below. The land was proclaimed to be an addition to and part of the reservation of the Pueblo of Isleta for the exclusive use of Indians on that reservation who are entitled to reside at the reservation by enrollment or tribal membership.

Tract Lettered “B,” Lands of Brown Construction Co., within section 6, Township 8 North, Range 3 East, N.M.P.M., and on M.R.G.C.D. Map No. 59, as the same is shown and designated on said plat thereof, filed in the Office of the County Clerk of Bernalillo County, New Mexico, on December 16, 1985,

Together with all buildings, structures, and other existing improvements upon any part of the foregoing-described real estate in their “as is” and “where is” condition, with all faults, and without warranties, express or implied, concerning suitability or fitness for use or other warranties of any type, except, and carrying, warranty of title;

Including all appurtenances, rights including reversionary rights, water rights, easements, and privileges belonging to or running with the foregoing-described real estate, including without limitation all of the Grantor's right, title, and interest, if any, in and to any and all land, lying in the bed of any street, road, cul-de-sac, alley, or access way, open or closed, existing, vacated, or proposed, adjoining, adjacent to, or contiguous to the foregoing-described real estate;

Subject to Reservations in Patent from the United State of America, recorded in Book 31, page 573, records of Bernalillo County, New Mexico;

Subject to that certain easement in favor of Public Service Company of New Mexico and Mountain States Telephone and Telegraph Company by document dated October 27, 1975, filed December 30, 1975, in Book Misc. 456, page 190, as Document No. 75-1947A, records of Bernalillo County, New Mexico, and as shown and provided for on the recorded plat of said Addition;

Subject to that certain easement in favor of Public Service Company of New Mexico and Mountain States Telephone and Telegraph Company by document dated November 12, 1976, filed December 17, 1976, in Book Misc. 511, page 35, as Document No. 76-66732, records of Bernalillo County, New Mexico, affecting the southerly seven feet (7′) of the premises, and as shown and provided for on the recorded plat of said Addition;

Subject to all taxes and other assessments for the current year by the County of Bernalillo or State of New Mexico, with warranty covenants. Containing 58 acres, more or less.

This proclamation does not affect title to the land described above, nor does it affect any valid existing easements for public roads and highways, for public utilities and for railroads and pipelines and any other rights-of-way or reservations of record.

Dated: May 22, 2001.
James H. McDivitt,
Deputy Assistant Secretary—Indian Affairs (Management).

[FR Doc. 01-13823 Filed 5-31-01; 8:45 am]

BILLING CODE 4310-02-P